DEPARTMENT OF VETERANS AFFAIRS

Solicitation of Nominations for Appointment to the VA Prevention of Fraud, Waste, and Abuse Advisory Committee

ACTION: Notice.

SUMMARY: The Department of Veterans Affairs (VA) is seeking nominations of qualified candidates to be considered for appointment to the VA Prevention of Fraud, Waste, and Abuse Advisor Committee (herein-after in this section referred to as “the Committee”).

DATES: Nominations for membership on the Committee must be received no later than 5:00 p.m. EST on July 24, 2017.

ADDRESSES: All nominations should be sent electronically to the Advisory Committee Management Office mailbox at vaadvisorycmte@va.gov.

FOR FURTHER INFORMATION CONTACT: Gregory Woskow, Designated Federal Officer, Office of Finance, Department of Veterans Affairs, 810 Vermont Avenue NW., (047), Washington, DC 20420, telephone (720) 471-1255.

SUPPLEMENTARY INFORMATION: In carrying out the duties set forth, the activities of the Committee include, but are not limited to:

(1) Identifying best practices and lessons learned from private industry and other Federal agencies that VA can leverage to maximize the effectiveness and efficiency of Department-wide activities to detect and prevent fraud, waste, and abuse in VA programs at significant risk;

(2) Providing advice on leveraging cutting-edge fraud detection and prevention tools and technologies used by other Federal agencies and private industry, including the identification of ways to utilize such tools in the short-term, as well as in the future, given VA's current Financial Management Business Transformation break-thru initiative; and

(3) Providing advice on leveraging partnerships and experience to assist in maximizing the efficiency and effectiveness of VA's “Seek to Prevent Fraud, Waste, and Abuse (STOP FWA)” initiative, which is designed to increase activities that prevent fraud, waste, and abuse and to reduce improper payments.

Authority: The Committee is being established by the directive of the Secretary of VA, in accordance with the provisions of the Federal Advisory Committee Act (FACA), as amended, 5 U.S.C. App. 2. The Committee will provide the Secretary of Veterans Affairs with advice related to improving and enhancing VA's efforts to identify, prevent, and mitigate fraud, waste, and abuse across VA in order to improve the integrity of VA's payments and the efficiency of VA's programs and activities.

Membership Criteria and Qualifications: VA is seeking nominations for Committee membership. The Committee is composed of twelve members and several ex-officio members.

The members of the Committee are appointed by the Secretary of Veteran Affairs from the general public, from various sectors and organizations, including but not limited to:

a. Veteran-focused organizations;

b. Academic communities;

c. Health care providers;

d. Other Federal agencies;

e. Insurance;

f. Former Inspectors General;

g. Veteran Service Organizations;

h. Military service organizations;

i. Academic communities; and

j. Leaders of key stakeholder associations and organizations.

In accordance with the Committee Charter, the Secretary shall determine the number, terms of service, and pay and allowances of Committee members, except that a term of service of any such member may not exceed two years. The Secretary may reappoint any Committee member for additional terms of service.

To the extent possible, the Secretary seeks members who have diverse professional and personal qualifications including but not limited to subject matter experts in the areas described above. We ask that nominations include any relevant experience information so that VA can ensure diverse Committee membership.

Requirements for Nomination Submission

Nominations should be typed (one nomination per nominator). Nomination package should include:

(1) A letter of nomination that clearly states the name and affiliation of the nominee, the basis for the nomination (i.e. specific attributes which qualify the nominee for service in this capacity), and a statement from the nominee indicating the willingness to serve as a member of the Committee;

(2) The nominee's contact information, including name, mailing address, telephone numbers, and email address;

(3) The nominee's curriculum vitae; and

(4) A summary of the nominee's experience and qualifications relative to the membership considerations described above.

Individuals selected for appointment to the Committee shall be invited to serve a two-year term. Committee members will receive a stipend for attending Committee meetings, including per diem and reimbursement for eligible travel expenses incurred.

The Department makes every effort to ensure that the membership of VA Federal advisory committees is diverse in terms of points of view represented and the committee's capabilities. Appointments to this Committee shall be made without discrimination because of a person's race, color, religion, sex, sexual orientation, gender identify, national origin, age, disability, or genetic information. Nominations must state that the nominee is willing to serve as a member of the Committee and appears to have no conflict of interest that would preclude membership. An ethics review is conducted for each selected nominee.

Dated: July 10, 2017.
Jelessa M. Burney,
Federal Advisory Committee Management Officer.

[FR Doc. 2017-14783 Filed 7-13-17; 8:45 am]

BILLING CODE 8320-01-P